DEPARTMENT OF COMMERCE

National Oceanic and Atmospheric Administration

[Docket No. 070516104-7104-01; I.D. 042607C]

Endangered and Threatened Species; 90-Day Finding for a Petition To List the Global Populations of Right Whales as a Single Species

AGENCY: National Marine Fisheries Service (NMFS), National Oceanic and Atmospheric Administration (NOAA), Commerce

ACTION: Notice of 90-day petition finding.

SUMMARY: We, NMFS, announce a 90-day finding regarding a petition to list the global populations of right whales with the common name Black Whale as a single species under the Endangered Species Act of 1973, as amended (ESA). This action is required by section 4(b)(3)(A) of the ESA. After review, we find the petition does not present substantial scientific or commercial information indicating that the petitioned action may be warranted.

DATES: This finding is effective immediately.

ADDRESSES: Copies of the petition are available upon request from the Division Chief, NMFS, Office of Protected Resources, Endangered Species Division, 1315 East-West Highway, Silver Spring, MD 20910-3226.

FOR FURTHER INFORMATION CONTACT: Marta Nammack, NMFS, 1315 East-West Highway, Silver Spring, MD 20910-3226, telephone (301)713-1401.

SUPPLEMENTARY INFORMATION:

Background

On March 8, 2007, we received a petition from GreenWorld to list the global populations of right whales as a single species with the common name Black Whale under the ESA. Copies of this petition are available from NMFS (see ADDRESSES, above). GreenWorld filed the petition following two proposed rules published by NMFS on December 27, 2006, to list the North Pacific Right Whale (71 FR 77694; December 27, 2006) and the North Atlantic Right Whale (71 FR 77704; December 27, 2006) as separate endangered species.

ESA Statutory Provisions

Pursuant to section 4(b)(3)(A) of the ESA, we are required to make a finding on whether a petition to list, delist, or reclassify a species presents substantial scientific or commercial information indicating that the petitioned action may be warranted. To the maximum extent practicable, this finding must be made within 90 days of receipt of the petition. Our ESA implementing regulations define “substantial information” as the amount of information that would lead a reasonable person to believe that the measure proposed in the petition may be warranted. In determining whether a petition contains substantial information indicating that the petitioned action may be warranted, we consider only information that is submitted with or referenced in the petition or readily available in our files. We do not conduct additional research. In making a finding, we consider whether the petition: (i) clearly indicates the administrative measure recommended and gives the scientific and any common name of the species involved; (ii) contains detailed narrative justification for the recommended measure, describing, based on available information, past and present numbers and distribution of the species involved and any threats faced by the species; (iii) provides information regarding the status of the species throughout all or a significant portion of its range; and (iv) is accompanied by the appropriate supporting documentation in the form of bibliographic references, reprints of pertinent publications, copies of reports or letters from authorities, and maps (50 CFR 424.14(b)(2)).

Analysis of Petition

For the reasons set forth below, the petition fails to present substantial scientific and commercial information indicating that the petitioned action may be warranted.

First, the petitioner fails to identify the scientific name of the species and provides no documentation or bibliographic references supporting the assertion that the global populations of right whales should be listed as a single species. The petitioner claims there is no scientific basis for listing the northern right whale as two species and that NMFS has offered no analysis of this listing in the Federal Register. However, information readily available in our files indicates that the best available science supports distinguishing the North Atlantic right whale (Eubalaena glacialis), North Pacific right whale (Eubalaena japonica), and southern right whale (Eubalaena australis) as three separate species (Rosenbaum et al., 2000; Malik et al., 2000; Schaeff et al., 1997; Gaines et al., 2005). Further, in 2000 the International Whaling Commission's Scientific Committee recommended the North Atlantic, North Pacific, and southern populations be considered separate species based on the prevailing right whale taxonomy. Lastly, in 2006 we completed a comprehensive status review of the northern right whale and concluded the northern right whale exists as two separate species, the North Atlantic right whale (E. glacialis) and the North Pacific right whale (E. japonica) (NMFS, 2006). We cited this report in the Federal Register in our proposed rules to list the North Pacific right whale (71 FR 77694; December 27, 2006) and North Atlantic right whale (71 FR 77704; December 27, 2006) as endangered under the ESA. A copy of the status review is also available at http://www.nmfs.noaa.gov/pr/species/mammals/cetaceans/rightwhale_northern.htm.

Second, the petitioner provides no information regarding the past and present abundance, distribution, and threats faced by the species in support of the assertion that the global populations of right whales should be listed as a single species. Information readily available in our files regarding the past and present abundance, distribution, and threats faced by the right whales supports the listing of three separate species. Our comprehensive review of the information regarding the past and present abundance, distribution, and threats in the 2006 northern right whale review (NMFS, 2006) also supports the listing of three separate species.

Third, the petitioner provides no information regarding the status of the species throughout all or a significant portion of its range to indicate the global populations of right whales should be listed as a single species. Information readily available in our files regarding the status of right whales supports the listing of three separate species as endangered. Our comprehensive review of the information regarding the status of right whales in the 2006 northern right whale review (NMFS, 2006) also supports the listing of three separate species.

Petition Finding

Based on our review, we find the petition does not present substantial scientific or commercial information indicating the listing of the global populations of right whales as a single species may be warranted. As a result, we will not initiate a status review to determine whether the petitioned action is warranted. We will continue to fulfill our statutory obligations with regard to the conservation of all listed species of right whales, and we encourage the public to submit new information that will assist with these conservation efforts.

References Cited

A complete list of all references is available upon request from the Office of Protected Resources (see ADDRESSES).

Authority: The authority for this action is the ESA, as amended (16 U.S.C. 1531 et seq.).

Dated: May 22, 2007.
Samuel D. Rauch III,
Deputy Assistant Administrator for Regulatory Programs, National Marine Fisheries Service.

[FR Doc. E7-10274 Filed 5-29-07; 8:45 am]

BILLING CODE 3510-22-S